DEPARTMENT OF TRANSPORTATION

Federal Aviation Administration

14 CFR Part 39

[Docket No. FAA-2018-0953; Product Identifier 2018-SW-079-AD; Amendment 39-19636; AD 2019-09-02]

RIN 2120-AA64

Airworthiness Directives; Bell Helicopter Textron, Inc. (Bell) Helicopters

AGENCY: Federal Aviation Administration (FAA), DOT.

ACTION: Final rule; request for comments.

SUMMARY: We are superseding Airworthiness Directive (AD) 2018-17-01 for Bell Model 212, 412, 412CF, and 412EP helicopters. AD 2018-17-01 required replacing certain oil and fuel check valves and prohibited installing these valves on any helicopter. This AD retains the requirements of AD 2018-17-01 but expands those requirements for all model helicopters. This AD was prompted by the discovery that we omitted a helicopter model from one of the required actions. We are issuing this AD to address the unsafe condition on these products.

DATES: This AD is effective June 4, 2019.

We must receive any comments on this AD by July 5, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

Examining the AD Docket

You may examine the AD docket on the internet at http://www.regulations.gov by searching for and locating Docket No. FAA-2018-0953; or in person at Docket Operations between 9 a.m. and 5 p.m., Monday through Friday, except Federal holidays. The AD docket contains this final rule, the regulatory evaluation, any comments received, and other information. The street address for Docket Operations (phone: 800-647-5527) is listed above. Comments will be available in the AD docket shortly after receipt.

FOR FURTHER INFORMATION CONTACT: Jurgen E. Priester, Aviation Safety Engineer, DSCO Branch, Compliance & Airworthiness Division, FAA, 10101 Hillwood Pkwy., Fort Worth, TX 76177; telephone (817) 222-5159; email jurgen.e.priester@faa.gov.

SUPPLEMENTARY INFORMATION:

Discussion

We issued AD 2018-17-01 (83 FR 42205, August 21, 2018) (“AD 2018-17-01”), for Bell Model 212, 412, 412CF, and 412EP helicopters with an engine oil check valve part number (P/N) 209-062-520-001 or fuel check valve P/N 209-062-607-001 manufactured by Circor Aerospace, marked “Circle Seal” and with a manufacturing date code of “10/11” (October 2011) through “03/15” (March 2015), except a check valve marked “TQL” next to the manufacturing date code, installed. AD 2018-17-01 resulted from a report that certain P/N 209-062-520-001 check valves manufactured by Circor Aerospace as replacement parts have been found cracked or leaking on several Bell Model 427 and Model 429 helicopters. At the time we issued AD 2018-17-01, we understood that these check valves may also be installed as engine oil check valves on Bell Model 212, 412CF and 412EP helicopters. Similar check valves, P/N 209-062-607-001, may be installed as fuel check valves on Bell Model 212, 412, 412CF, and 412EP helicopters. These check valves may have a condition induced during assembly that can cause the valve body to crack, resulting in oil or fuel leakage. This condition could result in loss of lubrication or fuel to the engine, failure of the engine or a fire, and subsequent loss of control of the helicopter. Consequently, AD 2018-17-01 required replacing the engine oil check valves on Model 212, 412CF, and 412EP helicopters and replacing the fuel check valves on Model 212, 412, 412CF, and 412EP helicopters. AD 2018-17-01 also prohibited installing an affected check valve on any helicopter.

Ex Parte Contact

On August 27, 2018, before the comment period for AD 2018-17-01 closed, we received a comment from the Japan Civil Aviation Bureau (JCAB). We responded to the JCAB and briefly discussed AD 2018-17-01 by email. The JRCB's comment during these discussions is addressed below. A copy of each email contact can be found in the rulemaking docket for AD 2018-17-01 at http://www.regulations.gov in Docket No. FAA-2018-0738.

Comments

We gave the public the opportunity to comment on AD 2018-17-01 after it became effective. We received comments from one commenter.

The JCAB requested that we clarify why the requirement in AD 2018-17-01 to replace the engine oil check valves does not apply to Model 412 helicopters, when the Bell service information requires replacing the engine oil check valve in that model.

The omission of Model 412 helicopters from the requirement to replace the engine oil check valve was an error. We are issuing this AD to correct that error and to require replacing the engine oil check valve in all applicable model helicopters.

Related Service Information

We reviewed Bell Alert Service Bulletin (ASB) 212-15-153, Revision A, dated October 6, 2017 (212-15-153), and Bell ASB 212-15-155, Revision A, dated October 6, 2017 (212-15-155), for Model 212 helicopters; Bell ASB 412-15-165, Revision A, dated October 6, 2017 (412-15-165), and Bell ASB 412-15-168, Revision A, dated October 6, 2017 (ASB 412-15-168), for Model 412 and 412 EP helicopters; and Bell ASB 412CF-15-57, Revision A, dated October 6, 2017 (412CF-15-57), and Bell ASB 412CF-15-59, Revision A, dated October 6, 2017 (412CF-15-59), for Model 412CF helicopters. ASB 212-15-153, ASB 412-15-165, and ASB 412CF-15-57 contain procedures for inspecting and replacing engine oil check valve P/N 209-062-520-001. ASB 212-15-155, ASB 412-15-168, and ASB 412CF-15-59 contain procedures for inspecting and replacing fuel check valve P/N 209-062-607-001. Revision A of the service information clarifies that check valves identified with “TQL” are not affected by the ASB procedures.

FAA's Determination

We are issuing this AD because we evaluated all the relevant information and determined the unsafe condition described previously is likely to exist or develop in other products of these same type designs.

AD Requirements

This AD requires within 25 hours time-in-service (TIS), replacing each fuel check valve and each engine oil check valve. This AD also prohibits installing on any helicopter a check valve P/N 209-062-520-001 or P/N 209-062-607-001 manufactured by Circor Aerospace, marked “Circle Seal” and with a manufacturing date code of “10/11” (October 2011) through “03/15” (March 2015), except for a check valve marked “TQL” next to the manufacturing date code.

FAA's Justification and Determination of the Effective Date

An unsafe condition exists that requires the immediate adoption of this AD without providing an opportunity for public comments prior to adoption. The FAA has found that the risk to the flying public justifies waiving notice and comment prior to adoption of this rule because we believe action is needed within 25 hours TIS, a short interval for helicopters used in firefighting and logging operations. Therefore, we find good cause that notice and opportunity for prior public comment are impracticable. In addition, for the reasons stated above, we find that good cause exists for making this amendment effective in less than 30 days.

Comments Invited

This AD is a final rule that involves requirements affecting flight safety, and we did not provide you with notice and an opportunity to provide your comments before it becomes effective. However, we invite you to send any written data, views, or arguments about this final rule. Send your comments to an address listed under the ADDRESSES section. Include the docket number FAA-2018-0953 and product identifier 2018-SW-079-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 186 (93 Model 212 and 93 Model 412) helicopters of U.S. Registry. We estimate that operators will incur the following costs to comply with this AD:

At an average labor rate of $85 per work-hour, replacing one check valve (engine oil or fuel) will require about 1 work-hour and a parts cost of $85. For replacing four valves (two engine oil valves and two fuel valves), we estimate a total cost of $680 per helicopter and $126,480 for the U.S. fleet.

According to Bell's service information some of the costs of this AD may be covered under warranty, thereby reducing the cost impact on affected individuals. We do not control warranty coverage by Bell. Accordingly, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2018-17-01, Amendment 39-19355 (83 FR 42205) and adding the following new AD:

2019-09-02 Bell Helicopter Textron, Inc. (Bell): Amendment 39-19636; Docket No. FAA-2018-0953; Product Identifier 2018-SW-079-AD.

(a) Effective Date

This AD is effective June 4, 2019.

(b) Affected ADs

This AD replaces AD 2018-17-01, Amendment 39-19355 (83 FR 42205, August 21, 2018).

(c) Applicability

This AD applies to Bell Model 212, 412, 412CF, and 412EP helicopters, certificated in any category, with an engine oil check valve part number (P/N) 209-062-520-001 or fuel check valve P/N 209-062-607-001 manufactured by Circor Aerospace, marked “Circle Seal” and with a manufacturing date code of “10/11” (October 2011) through “03/15” (March 2015), except a check valve marked “TQL” next to the manufacturing date code, installed.

(d) Subject

Joint Aircraft System Component (JASC)/Air Transport Association (ATA) of America Codes: 7900 Engine Oil System and 2800 Aircraft Fuel System.

(e) Unsafe Condition

This AD defines the unsafe condition as a cracked or leaking check valve, which could result in loss of lubrication or fuel to the engine, failure of the engine or a fire, and subsequent loss of control of the helicopter.

(f) Compliance

Comply with this AD within the compliance times specified, unless already done.

(g) Required Actions

(1) Within 25 hours time-in-service, replace each fuel check valve and each engine oil check valve.

(2) After the effective date of this AD, do not install on any helicopter a check valve P/N 209-062-520-001 or P/N 209-062-607-001 manufactured by Circor Aerospace, marked “Circle Seal” and with a manufacturing date code of “10/11” (October 2011) through “03/15” (March 2015), except for a check valve marked “TQL” next to the manufacturing date code.

(h) Alternative Methods of Compliance (AMOCs)

(1) The Manager, DSCO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i) of this AD.

(2) Before using any approved AMOC, notify your appropriate principal inspector, or lacking a principal inspector, the manager of the local flight standards district office/certificate holding district office.

(i) Related Information

For more information about this AD, contact Jurgen E. Priester, Aviation Safety Engineer, DSCO Branch, Compliance & Airworthiness Division, FAA, 10101 Hillwood Pkwy., Fort Worth, TX 76177; telephone (817) 222-5159; email jurgen.e.priester@faa.gov.

Issued in Fort Worth, Texas, on May 1, 2019.
Lance T. Gant,
Director, Compliance & Airworthiness Division, Aircraft Certification Service.

[FR Doc. 2019-10310 Filed 5-17-19; 8:45 am]

BILLING CODE 4910-13-P